NATIONAL SCIENCE FOUNDATION

Notice of Availability

AGENCY: National Science Foundation.

ACTION: Notice and Request for Comments.

SUMMARY: Draft Environmental Assessment for Construction of Northern Arizona University's Merriam-Powell Research Station at The Arboretum at Flagstaff, Flagstaff, Arizona.

DATES: Written comments on this notice must be postmarked by November 7, 2005, to be assured of consideration.

For Additional Information Or Comments: A copy of the Draft EA is available for review at the Flagstaff City-Coconino County Public Library, 300 West Aspen Ave., Flagstaff, Arizona. The Draft EA is also available at http://www.nsf.gov/bio/pubs/reports/ea_mprs.doc. The NSF will accept written comments on the Draft EA during an official public review period that will end on November 7, 2005. Please direct any requests for the Draft EA to Amy V. Whipple, Merriam-Powell Center for Environmental Research, PO Box 5640, Northern Arizona University, Flagstaff, AZ 86011 or Amy.Whipple@NAU.EDU. Please address any written comments on the Draft EA to Gerald B. Selzer, Director of the Field Stations and Marine Laboratories Program, 4201 Wilson Blvd., Arlington, VA 22230 or gselzer@nsf.gov.

SUPPLEMENTARY INFORMATION: Northern Arizona University proposes to construct and operate the Merriam-Powell Research Station (MPRS) in collaboration with and on property leased from The Arboretum at Flagstaff. This project is funded by the National Science Foundation (NSF), which is the Federal lead agency for this Environmental Assessment (EA). The proposed research station will provide facilities for visiting researchers, students, instructors, and agency personnel. It will leverage productive collaborations involving NAU researchers and the numerous field research opportunities in Northern Arizona, including the adjacent NAU Centennial Forest. The two alternatives sites considered for the MPRS were on undeveloped land on the NAU Centennial Forest and adjacent to existing development at The Arboretum at Flagstaff. It is expected that construction will be completed in May of 2006.

A Draft Environmental Assessment (EA) has been prepared that analyzes the potential environmental effects of this proposed action. From the information contained in the Draft EA, the NSF is prepared to find that no significant environmental effects will result from construction of the Merriam-Powell Research Station on the preferred site at the Arboretum at Flatgstaff.

Dated: October 3, 2005.
Gerlad B. Selzer,
Program Director for Field Stations and Marine Laboratories, Division of Biological Infrastructure, National Science Foundation, 4201 Wilson Blvd., Room 615, Arlington, VA 22230.

[FR Doc. 05-20149 Filed 10-6-05; 8:45am]

BILLING CODE 7555-01-M